DEPARTMENT OF COMMERCE

International Trade Administration

Export Trade Certificate of Review

ACTION: Notice of Application to Amend an Export Trade Certificate of Review.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Vanessa M. Bachman, Acting Director, Office of Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination of whether an amended Certificate should be issued.

If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 87-16A04.”

The Association for Manufacturing Technology's (“AMT”) original Certificate was issued on May 19, 1987 (52 FR 19371, May 22, 1987) and last amended on March 6, 2001 (66 FR 15841, March 21, 2001).

A summary of the application for an amendment follows.

Summary of the Application

Applicant: AMT—The Association for Manufacturing Technology, 7901 Westpark Drive, McLean, Virginia, 22102-4269.

Contact: Karin L. Kizer, Attorney, Telephone: (202) 662-5303.

Application No.: 87-16A04.

Date Deemed Submitted: September 11, 2001.

Proposed Amendment: AMT seeks to amend its Certificate to:

1. Add each of the following companies as a new “Member” of the Certificate within the meaning of § 325.2(1) of the regulations (15 CFR 325.2(1)): The Beckwood Corporation, Fenton, Missouri; Ultra Tech Machinery, Inc., Cuyahoga Falls, Ohio; ATS Michigan, Brighton, Michigan; ATS Southwest, Tucson, Arizona; ATS Carolina, Rock Hill, South Carolina; Advanced Machine & Engineering Co., Rockford, Illinois; The Gem City Engineering Company, Dayton, Ohio; ATS Oregon, Carvallis, Oregon; and DeVlieg Bullard II, Inc., Rockford, Illinois.

2. Delete the following companies as “Members” of the Certificate: American Pfauter Limited Partnership; Anorad Corporation; Automatic Design Concepts; Belden Inc.; Benchmaster Products, Inc.; Boston Digital Corporation; Buffalo Machine Tools of Niagara, Inc.; Clearing Niagara; Columbus McKinnon for the activities of its CM Positech Division; D&H Machinery, Inc.; Davenport Machine—A Dover Industries Company; Elox Corporation; Esterline Technologies; GEC Alsthom Cyril Bath Company; Harper Surface Finishing System, Inc.; Hayes-Lemmerz Process Control Automation, Inc.; Jesse Engineering Co.; Jewett Automation; Lumonics Corporation; MG Industries; Machine Tool Research, Inc.; MHI Machine Tool USA, Inc.; New Monarch Machine Tool Company; Olofsson Corporation; O.S. Walker Company, Inc.; PMC Industries; P.R. Hoffman Machine Products; Pacific Roller Die Co., Inc.; Parker-Majestic Inc.; The Producto Machine Company; RD & D Corporation; Rendas Tool & Die, Inc.; R. Howard Strasbaugh, Inc.; Teledyne; Themac, Inc.; Tree Machine Tool Co., Inc.; Tyler Machinery Co.; U.S. Amada, Ltd.; Unison Corporation; Utilase Systems, Inc.; Vermont—USA Machine Tool Group; Versa-Mil Inc./Phillips Corporation; Weldun Flexible Assembly Company; W.J. Savage Company, Inc.; and Wisconsin Automated Machinery.

3. Change the listing of two existing Members as follows: “Kleer-Flo Industries” to “Kleer-Flo Company” and “LeBlond Makino Machine Tool Company” to “Makino Inc.”

Dated: September 19, 2001.
Vanessa M. Bachman,
Acting Director, Office of Export Trading, Company Affairs.

[FR Doc. 01-23966 Filed 9-24-01; 8:45 am]

BILLING CODE 3510-DR-P